NATIONAL TRANSPORTATION SAFETY BOARD

Public Forum—Rail Safety: Transportation of Crude Oil and Ethanol

On Tuesday and Wednesday, April 22-23, 2014, The National Transportation Safety Board (NTSB) will convene a forum titled Rail Safety: Transportation of Crude Oil and Ethanol. The forum will begin at 9:00 a.m., on both days and is open to all. Attendance is free, and no registration is required. NTSB Chairman Deborah A.P. Hersman will serve as the presiding officer of the forum, and all five NTSB board members will serve as members of the Board of Inquiry. The forum is organized into four topic areas covering:

• Tank Car Design, Construction, and Crashworthiness

• Rail Operations and Approaches to Risk Management

• Emergency Response to Tank Car Releases of Crude Oil and Ethanol

• Federal Oversight and Industry Initiatives Related to Crude Oil and Ethanol Transportation by Rail

The forum will also review tank car accidents involving crude oil and ethanol releases and the NTSB recommendations associated with these accidents. The forum's goal is to better understand how railroads currently manage crude oil and ethanol transportation, how to reduce accidents and improve emergency preparedness, and what steps are needed to improve tank car design to minimize risks to the safety of first responders and the public during and immediately following accidents. In addition, the forum will update the Board on the progress being made to address NTSB recommendations dealing with tank car design, emergency response, and risk assessment. Invited panelists will include the Federal Railroad Administration, Pipeline and Hazardous Materials Safety Administration, railroad owners and operators, researchers, emergency responders, and industry groups. Below is the preliminary agenda

Tuesday, April 22, 2014 (9:00 a.m.-5:00 p.m.)

1. Opening Statement by Chairman Hersman

2. Opening presentations by the NTSB

3. Presentations on: Tank Car Design, Construction, and Crashworthiness

4. Questions from the Technical Panel and Board of Inquiry

5. Presentations on: Rail Operations and Approaches to Risk Management

6. Questions from the Technical Panel and Board of Inquiry

7. Closing Statement by Chairman Hersman

Wednesday, April 23, 2014 (9:00 a.m.-5:00 p.m.)

1. Opening Statement by Chairman Hersman

2. Presentations on: Emergency Response to Tank Car Releases of Crude Oil and Ethanol

3. Questions from the Technical Panel and Board of Inquiry

4. Presentations on: Federal Oversight and Industry Initiatives Related to Crude Oil and Ethanol Transportation by Rail

5. Questions from the Technical Panel and Board of Inquiry

6. Closing Statement by Chairman Hersman

The full agenda and a list of participants can be found at the following web address: http://www.ntsb.gov/crudeandethanolforum.

The hearing docket is DCA14SS004.

The forum will be held in the NTSB Board Room and Conference Center, located at 429 L'Enfant Plaza E. SW., Washington, DC. The public can view the hearing in person or by live webcast at www.ntsb.gov. Webcast archives are generally available by the end of the next day following the hearing, and webcasts are archived for a period of 3 months from after the date of the event.

Individuals requiring reasonable accommodation and/or wheelchair access directions should contact Ms. Rochelle Hall at (202) 314-6305 or by email at Rochelle.Hall@ntsb.gov by Wednesday, April 16, 2014.

NTSB Media Contact: Eric Weiss—eric.weiss@ntsb.gov.

NTSB Forum Manager: Matthew Nicholson—matthew.nicholson@ntsb.gov.

Dated: April 4, 2014.
Candi R. Bing,
Federal Register Liaison Officer.

[FR Doc. 2014-08262 Filed 4-11-14; 8:45 am]

BILLING CODE 7533-01-P